Proclamation 10385 of April 29, 2022

National Teacher Appreciation Day and National Teacher Appreciation Week, 2022

By the President of the United States of America

A Proclamation

As the husband of a lifelong educator, who continues to teach full-time as First Lady, I have often heard Jill say: “Teaching is not what you do. It's who you are.” Our Nation's teachers are selfless, dedicated, and caring individuals who devote themselves to the well-being and progress of our students. During this National Teacher Appreciation Day and throughout National Teacher Appreciation Week, we honor educators who touch the lives of students across America and who are essential to building the future of our Nation.

One of the greatest gifts our schools give to students and educators is time spent with one another—the daily opportunities to learn and grow together, face to face. There is no substitute for the wisdom this experience brings. That is why, when I took office, I made it a priority to reopen schools as quickly and safely as possible. Today, I am proud that more than 99 percent of schools are open for full-time in-person instruction. By following the science and making vaccines available for students, educators, and staff, we got kids back to school safely.

My Administration is working tirelessly to support educators. The American Rescue Plan provided a historic $122 billion investment to our Nation’s schools so they could safely reopen for in-person instruction, address students’ mental health needs, hire more teachers, and make up for lost learning. Teachers have long been underpaid, and these funds help school districts increase compensation to recruit and retain the teachers that students need.

To counter the negative impacts of the pandemic on student learning, our educators have returned to the classroom with creative solutions. They have partnered with communities to implement safety measures, increase students' access to mental health support, and equip them with critical life skills. Teachers have also found new ways to address unfinished learning and engage meaningfully with students and families. To support our educators, the Department of Education is offering unprecedented resources to help teachers meet student needs. My Administration is also committed to strengthening pathways into the teaching profession for future educators of color, ensuring a more diverse workforce.

I will never forget the educators who encouraged me as a child. Many of us remember our favorite teachers—the ones who instilled confidence in us, who encouraged us to dream boldly, and who helped us believe that we could achieve anything. On National Teacher Appreciation Day and during National Teacher Appreciation Week, we pay tribute to educators who empower students across the country with the knowledge and skills they need to reach their potential and achieve their dreams.

NOW, THEREFORE, I, JOSEPH R. BIDEN JR., President of the United States of America, by virtue of the authority vested in me by the Constitution and the laws of the United States, do hereby proclaim May 3, 2022, as National Teacher Appreciation Day and May 1 through May 7, 2022, as National Teacher Appreciation Week. I call upon all Americans to recognize the hard work and dedication of our Nation's teachers and to observe this day and this week by supporting teachers through appropriate activities, events, and programs.

IN WITNESS WHEREOF, I have hereunto set my hand this twenty-ninth day of April, in the year of our Lord two thousand twenty-two, and of the Independence of the United States of America the two hundred and forty-sixth.

[FR Doc. 2022-09765

Filed 5-4-22; 8:45 am]

Billing code 3395-F2-P